DEPARTMENT OF TRANSPORTATION

Pipeline and Hazardous Materials Safety Administration

Notice of Application for Special Permits

AGENCY: Pipeline and Hazardous Materials Safety Administration (PHMSA), DOT.

ACTION: List of Applications for Special Permits

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 21, 2013.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on May 15, 2013.
Donald Burger,
Chief, General Approvals and Permits.

New Special Permits
Application No. | Docket No. | Applicant | Regulation(s) affected | Nature of special permits thereof
15845-N |  | Michels Corporation, Brownsville, WI | 49 CFR 177.834(h) and § 178.700(c)(1) | To authorize the manufacture, marking, sale and use of non-DOT specification metal refueling tanks containing certain Class 3 liquids which are discharged from the refueling tanks without removing them from the vehicle on which they are transported. (mode 1).
15849-N |  | Airgas USA, LLC, Tulsa, OK | 49 CFR 180.211 (c)(2)(i) | To authorize the repair of certain DOT 4L cylinders without requiring pressure testing as currently described in 49 CFR § 180.211(c)(2)(i). (modes 1, 2, 3, 4).
15850-N |  | Chart Industries, New Prague, MN | 49 CFR 173.315 | To authorize the manufacture, mark and sale of non-DOT specification tanks cars similar to DOT113C120W for the transportation in commerce of certain refrigerated liquid. (mode 2).
15851-N |  | Conair Corporation, East Windsor, NJ | 49 CFR 171.2(k) | To authorize the transportation in commerce of certain used DOT 3AL cylinders that contain CO2, but not necessarily in an amount qualifying as hazardous material. (modes 1, 2, 3, 4, 5).
15852-N |  | Nuance Medical, LLC, Carlsbad, CA | 49 CFR 173.304a(a)(1); 173.306(a) | To authorize the transportation in commerce of small units of certain compressed gas, intended for medical use as limited quantities and/or ORM-D. (modes 1, 2, 3, 4, 5).
15853-N |  | Praxair, Inc., Danbury, CT | 49 CFR 176.83 | To authorize the transportation in commerce of certain DOT specification or UN certified packaging containing Division 2.1, 2.2, 2.3, 4.3, 5.1, 6.1, and Class 3 and Class 8 materials in a single Container Transport Unit (CTU) consisting of multiple compartments in lieu of segregation when transported by cargo vessel. (mode 3).
15856-N |  | Matheson Tri-Gas, Basking Ridge, NJ | 49 CFR 180.209 | To authorize the transportation in commerce of certain DOT 3AL cylinders manufactured from aluminum alloy 6061-T6 that are requalified every ten years rather than every five years using 100% ultrasonic examination and are not required to be hammer tested prior to each refill. (modes 1, 2, 3, 4, 5).
15858-N |  | Thunderbird Cylinder, Inc., Phoenix, AZ | 49 CFR 180.209 | To authorize the transportation in commerce of certain DOT 3AL cylinders that are requalified every ten years rather than every five years using 100% ultrasonic examination. (modes 1, 2, 3, 4).
15860-N |  | Apple Inc., Cupertino, CA | 49 CFR 173.185(a) | To authorize the transportation in commerce of damaged or defective lithium ion batteries that do not meet the requirements of § 173.185(a) (modes 1,3).
15861-N |  | Petro2Go, LLC., De Pere, WI | 49 CFR 177.834(h) and 178.700(c)(1) | To authorize the manufacture, mark and sale of non-bulk refueling tanks as intermediate bulk containers which are authorized to be unloaded from the motor vehicle when transporting various Class 3 hazardous materials. (mode 1).

[FR Doc. 2013-12009 Filed 5-21-13; 8:45 am]

BILLING CODE 4909-60-M